DEPARTMENT OF TRANSPORTATION

Federal Aviation Administration

14 CFR Part 71

[Docket No. 29334; Amendment No. 71-37]

Airspace Designations; Incorporation by Reference; Correction

AGENCY: Federal Aviation Administration (FAA), DOT.

ACTION: Final rule; correction.

SUMMARY: This action corrects an error in the effective date contained in a Final Rule that was published in the Federal Register on September 1, 2005 (70 FR 52012). That Final Rule amended Title 14 Code of Federal Regulations (14 CFR) part 71 relating to airspace designations to reflect the approval by the Director of the Federal Register of the incorporation by reference of FHA Order 7400.9N, Airspace Designations and Reporting Points.

DATES: These regulations are effective September 15, 2005. The incorporation by reference of FAA Order 7400.9N is approved by the Director of the Federal Register as of September 15, 2005, through September 15, 2006.

FOR FURTHER INFORMATION CONTACT: Tameka Bentley, telephone (202) 267-8783.

Issued in Washington, DC on September 16, 2005.
Michael Chase,
Branch Manager, Air Traffic and Airman and Airport Certification Law, Regulations Division.

[FR Doc. 05-18890 Filed 9-16-05; 3:48pm]

BILLING CODE 4910-13-M